DEPARTMENT OF LABOR

Occupational Safety and Health Administration

[Docket No. OSHA-2006-0030]

National Technical Systems, Inc.; Renewal of Recognition

AGENCY: Occupational Safety and Health Administration (OSHA), Labor.

ACTION: Notice.

SUMMARY: This notice announces the Occupational Safety and Health Administration's final decision granting the renewal of recognition of National Technical Systems, Inc., (NTS) as a Nationally Recognized Testing Laboratory under 29 CFR 1910.7.

DATES: The renewal of recognition becomes effective on June 21, 2007.

FOR FURTHER INFORMATION CONTACT: MaryAnn Garrahan, Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Final Decision

The Occupational Safety and Health Administration (OSHA) hereby gives notice of the renewal of recognition of National Technical Systems, Inc., (NTS) as a Nationally Recognized Testing Laboratory (NRTL). This renewal covers NTS's existing scope of recognition, which may be found in the following informational Web page: http://www.osha.gov/dts/otpca/nrtl/nts.html.

OSHA recognition of an NRTL signifies that the organization has met the legal requirements in § 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL that details its scope of recognition. These pages can be accessed from our Web site at http://www.osha.gov/dts/otpca/nrtl/index.html.

National Technical Systems, Inc., (NTS) initially received OSHA recognition as a Nationally Recognized Testing Laboratory on December 10, 1998 (63 FR 68306) for a five-year period ending on December 10, 2003. Appendix A to 29 CFR 1910.7 stipulates that the period of recognition of an NRTL is five years and that an NRTL may renew its recognition by applying not less than nine months, nor more than one year, before the expiration date of its current recognition. NRTLs submitting requests within this allotted time period retain their recognition during OSHA's renewal process. NTS submitted a request, dated February 13, 2003 (see Exhibit 7), to renew its recognition. This request fell within the allotted time period, and NTS retained its recognition pending OSHA's final decision in this renewal process. In connection with the renewal, an NRTL Program assessor performed an on-site review the NRTL's site. Based upon this review, the assessor recommended the renewal of NTS's recognition in a memo dated July 22, 2005 (see Exhibit 7-1).

The preliminary notice announcing the renewal application was published in the Federal Register on August 17, 2006 (71 FR 47534). Comments were requested by September 1, but no comments were received in response to this notice.

The most recent application processed by OSHA specifically related to the recognition of NTS granted its initial recognition, and the final notice for this recognition was published as noted above.

You may obtain or review copies of all public documents pertaining to the NTS application by contacting the Docket Office, Occupational Safety and Health Administration, U.S. Department of Labor, 200 Constitution Avenue, NW., Room N2625, Washington, DC, 20210. Docket No. OSHA-2006-0030 (formerly, NRTL1-98) contains all materials in the record concerning the NTS application.

The current address of the NTS facility (site) already recognized by OSHA and included as part of the renewal is:

National Technical Systems, Inc., 1146 Massachusetts Avenue, Boxborough, MA 01719.

Final Decision and Order

NRTL Program staff has examined the application, the assessor's report, and other pertinent information. Based upon this examination and the assessor's recommendation, OSHA finds that NTS has met the requirements of 29 CFR 1910.7 for renewal of its recognition, subject to the limitations and conditions listed below. Pursuant to the authority in 29 CFR 1910.7, OSHA hereby renews the recognition of NTS, subject to these limitations and conditions.

Limitations

1. Test Standards and Site

OSHA limits the renewal of the NTS recognition to the one site listed above and to testing and certification of products for demonstration of conformance to the test standards listed below. OSHA has determined that each of these standards meets the requirements for an appropriate test standard, within the meaning of 29 CFR 1910.7(c).

UL 484—Room Air Conditioners.

UL 489—Molded-Case Circuit Breakers, Molded-Case Switches, and Circuit-Breaker Enclosures.

UL 499—Electric Heating Appliances.

UL 544—Medical and Dental Equipment.

UL 1012—Power Units Other Than Class 2.

UL 1778—Uninterruptible Power Systems.

UL 1863—Communications-Circuit Accessories.

UL 1995—Heating and Cooling Equipment.

UL 60601-1—Medical Electrical Equipment, Part 1: General Requirements for Safety.

UL 60950—Information Technology Equipment.

UL 61010A-1—Electrical Equipment For Laboratory Use; Part 1: General Requirements.

UL 61010B-1—Electrical Measuring and Test Equipment; Part 1: General Requirements.

The designations and titles of the above test standards were current at the time of the preparation of the preliminary notice.

OSHA's recognition of NTS, or any NRTL, for a particular test standard is limited to equipment or materials (i.e., products) for which OSHA standards require third-party testing and certification before use in the workplace. Consequently, if a test standard also covers any product(s) for which OSHA does not require such testing and certification, an NRTL's scope of recognition does not include that product(s).

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

2. Supplemental Programs

The renewal is also limited to continued use by NTS of the following supplemental programs, all of which are currently in its scope.

Program 4: Acceptance of witnessed testing data.

Program 8: Acceptance of product evaluations from organizations that function as part of the International Electrical Commission Certification Body (IEC-CB) Scheme.

Program 9: Acceptance of services other than testing or evaluation performed by subcontractors or agents.

In developing these programs, OSHA responded to industry requests and allowed certain of their ongoing practices to continue but in a manner controlled by OSHA criteria. In this sense, they are special conditions that the Agency places on an NRTL's recognition. OSHA does not consider these programs in determining whether an NRTL meets the requirements for recognition under 29 CFR 1910.7. However, these programs help to define the scope of that recognition.

Conditions

NTS must also abide by the following conditions of the recognition, in addition to those already required by 29 CFR 1910.7:

OSHA must be allowed access to NTS's facility and records for purposes of ascertaining continuing compliance with the terms of its recognition and to investigate as OSHA deems necessary;

If NTS has reason to doubt the efficacy of any test standard it is using under this program, it must promptly inform the test standard developing organization of this fact and provide that organization with appropriate relevant information upon which its concerns are based;

NTS must not engage in or permit others to engage in any misrepresentation of the scope or conditions of its recognition. As part of this condition, NTS agrees that it will allow no representation that it is either a recognized or an accredited Nationally Recognized Testing Laboratory (NRTL) without clearly indicating the specific equipment or material to which this recognition is tied, or that its recognition is limited to certain products;

NTS must inform OSHA as soon as possible, in writing, of any change of ownership, facilities, or key personnel, and of any major changes in its operations as an NRTL, including details;

NTS will meet all the terms of its recognition and will always comply with all OSHA policies pertaining to this recognition; and

NTS will continue to meet the requirements for recognition in all areas where it has been recognized.

Signed at Washington, DC, this 4th day of June, 2007.
Edwin G. Foulke, Jr.,
Assistant Secretary of Labor for Occupational Safety and Health.

[FR Doc. E7-12024 Filed 6-20-07; 8:45 am]

BILLING CODE 4510-26-P